INTERNATIONAL TRADE COMMISSION

[Investigation Nos. 701-TA-467 and 731-TA-1164-1165 (Second Review)]

Narrow Woven Ribbons With Woven Selvedge From China and Taiwan

Determinations

On the basis of the record ¹ developed in the subject five-year reviews, the United States International Trade Commission (“Commission”) determines, pursuant to the Tariff Act of 1930 (“the Act”), that revocation of the countervailing duty order on imports of narrow woven ribbons with woven selvedge (“narrow woven ribbons”) from China and antidumping duty orders on narrow woven ribbons from China and Taiwan would be likely to lead to continuation or recurrence of material injury to an industry in the United States within a reasonably foreseeable time.

¹ The record is defined in § 207.2(f) of the Commission's Rules of Practice and Procedure (19 CFR 207.2(f)).

Background

The Commission instituted these reviews on August 2, 2021 (86 FR 41514), and determined on November 5, 2021, that it would conduct expedited reviews (87 FR 7498, February 9, 2022).

The Commission made these determinations pursuant to section 751(c) of the Act (19 U.S.C. 1675(c)). It completed and filed its determinations in these reviews on March 7, 2022. The views of the Commission are contained in USITC Publication 5292 (March 2022), entitled Narrow Woven Ribbons with Woven Selvedge from China and Taiwan: Investigation Nos. 701-TA-467 and 731 TA 1164-1165 (Second Review).

By order of the Commission.
Issued: March 7, 2022.
Lisa Barton,
Secretary to the Commission.

[FR Doc. 2022-05099 Filed 3-9-22; 8:45 am]

BILLING CODE 7020-02-P